DEPARTMENT OF ENERGY

Federal Energy Regulatory Commission

[Project No. 14772-000]

Black Mountain Hydro, LLC; Notice of Preliminary Permit Application Accepted for Filing and Soliciting Comments, Motions To Intervene, and Competing Applications

On March 24, 2016, Black Mountain Hydro, LLC, filed an application for a preliminary permit, pursuant to section 4(f) of the Federal Power Act (FPA), proposing to study the feasibility of the Southern Intertie Pumped Storage Project (Southern Intertie Project or project) to be located on Black Mountain, near Yerington, in Mineral and Lyon Counties, Nevada. The sole purpose of a preliminary permit, if issued, is to grant the permit holder priority to file a license application during the permit term. A preliminary permit does not authorize the permit holder to perform any land-disturbing activities or otherwise enter upon lands or waters owned by others without the owners' express permission.

The proposed closed-loop pumped storage project would consist of the following: (1) An upper reservoir in a natural depression having a total storage capacity of 4,460 acre-feet at a normal maximum operating elevation of 7,410 feet mean sea level (msl); (2) a 105-foot-tall, 1,500-foot-long lower dam of indeterminate construction; (3) a lower reservoir having a total storage capacity of 4,384 acre-feet at a normal maximum operating elevation of 5,500 feet msl; (4) a 2,200-foot-long, 16.5-foot-diameter, concrete low pressure tunnel; (5) a 7,850-foot-long 16.5-foot-diameter concrete and steel lined high pressure tunnel; (6) a 2,200-foot-long, 20-foot-diameter concrete lined tailrace; (7) a 300-foot-long, 80-foot-wide, 50-feet-high underground powerhouse containing three 200-MW pump-turbine generator units; (8) a 4.6-mile-long 230-kV transmission line; (9) a 230/500 kV substation; and (10) appurtenant facilities. The estimated annual generation of the Southern Intertie Project would be 1,577 gigawatt-hours.

Applicant Contact: Mr. Mathew Schapiro, Chief Executive Officer, Gridflex Energy, LLC, 1210 W. Franklin St., Ste. 2, Boise, Idaho 83702; phone: (208) 246-9925.

FERC Contact: Joseph Hassell; phone: (202) 502-8079.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14772-000.

More information about this project, including a copy of the application, can be viewed or printed on the “eLibrary” link of Commission's Web site at http://www.ferc.gov/docs-filing/elibrary.asp. Enter the docket number (P-14772) in the docket number field to access the document. For assistance, contact FERC Online Support.

Dated: May 6, 2016.
Kimberly D. Bose,
Secretary.

[FR Doc. 2016-11227 Filed 5-11-16; 8:45 am]

BILLING CODE 6717-01-P